OVERSEAS PRIVATE INVESTMENT CORPORATION

Submission for OMB Review; Comments Request

AGENCY: Overseas Private Investment Corporation (OPIC).

ACTION: Notice and request for comments.

SUMMARY: Under the provisions of the Paperwork Reduction Act (44 U.S.C. Chapter 35), agencies are required to publish a Notice in the Federal Register notifying the public that the agency has prepared an information collection for OMB review and approval and has requested public review and comment on the submission. OPIC received no comments in response to the sixty (60) day notice published in Federal Register volume 79, number 168, page 51626 on August 29, 2014. The purpose of this notice is to allow an additional thirty (30) days for public comments to be submitted. Comments are being solicited on the need for the information; the accuracy of the Agency's burden estimate; the quality, practical utility, and clarity of the information to be collected; and ways to minimize reporting the burden, including automated collected techniques and uses of other forms of technology.

DATES: Comments must be received within thirty (30) calendar days of publication of this Notice. OPIC plans to implement this form in Dec 2013/Jan 2014.

ADDRESSES: Copies of the subject form may be obtained from the Agency Submitting Officer.

FOR FURTHER INFORMATION CONTACT: OPIC Agency Submitting Officer: Essie Bryant, Records Manager, Overseas Private Investment Corporation, 1100 New York Avenue NW., Washington, DC 20527; (202) 336-8563.

Summary Form Under Review

Type of Request: New form.

Title: Aligned Capital Investor Screener.

Form Number: OPIC-253.

Frequency of Use: Once per investor.

Type of Respondents: Foundations, non-profit entities, investment fund managers, investment companies, U.S. Government Agencies.

Description of Affected Public: U.S. and foreign citizens investing in projects overseas.

Reporting Hours: 75 hours (1 hour per response).

Number of Responses: 75 per year.

Federal Cost: $3,819.

Authority for Information Collection: Sections 231, 234(a), 239(d), and 240A of the Foreign Assistance Act of 1961, as amended.

Abstract (Needs and Uses): The personal financial statement is supporting documentation to the OPIC application for financing (OPIC-115). The information provided is used by OPIC to determine if individuals who are providing equity investment in or credit support to a project have sufficient financial wherewithal to meet their expected obligations under the proposed terms of the OPIC financing.

Dated: November 3, 2014.
Nichole Cadiente,
Administrative Counsel, Administrative Affairs, Department of Legal Affairs.

[FR Doc. 2014-26550 Filed 11-10-14; 8:45 am]

BILLING CODE M